DEPARTMENT OF HEALTH AND HUMAN SERIVCES

Health Resources and Services Administration

Agency Information Collection Activities: Submission for OMB Review: Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129. The following request has been submitted to OMB for review under the Paperwork Reduction Act of 1995:

Proposed Project: Ryan White HIV/AIDS Program Annual Data Report Form: Data Report Form: (OMB No. 0915-0253)—Extension

The Ryan White HIV/AIDS Program Annual Data Report was first implemented in 2002 by HRSA's HIV/AIDS Bureau (HAB) as the CARE Act Data Report (CADR). Grantees and their subcontracted service providers who are funded under Parts A, B, C, and D of Title XXVI of the Public Health Service Act, as amended by the Ryan White HIV/AIDS Treatment Extension Act of 2009 (Ryan White HIV/AIDS Program), complete the report. All Parts of the Ryan White HIV/AIDS Program specify HRSA's responsibilities in the administration of grant funds, the allocation of funds, the evaluation of programs for the population served, and the improvement of the quantity and quality of care. Accurate records of the providers receiving Ryan White HIV/AIDS Program funding, the services provided, and the clients served continue to be critical to the implementation of the legislation and thus are necessary for HRSA to fulfill its responsibilities. Ryan White HIV/AIDS Program Grantees are required to report aggregate data to HRSA annually. The Ryan White Data Report (RDR) is completed by grantees and their subcontracted service providers. The Report has seven different sections requesting: (1) Characteristics of the service providers; (2) demographic information about the clients served; (3) information about the type of core and support services provided and the number of clients served; (4) information about HIV counseling and testing services; (5) clinical information about the clients who receive medical care; (6) demographic tables for Parts C and D; and (7) information about the Health Insurance Program. The primary purposes of the Data Report are to: (1) Characterize the organizations where clients receive services; (2) provide information on the number and characteristics of clients who receive Ryan White HIV/AIDS Program Services; and (3) enable HAB to describe the type and amount of services a client receives. In addition to meeting the goal of accountability to the Congress, clients, advocacy groups, and the general public, information collected on the RDR is critical for HRSA, state and local grantees, and individual providers to assess the status of existing HIV-related service delivery systems.

The estimated burden is as follows:

Program under which grantee is funded | Number of grantee respondents | Responses per grantee | Hours to coordinate receipt of data | Total hour burden
Part A | 56 | 1 | 40 | 2,240
Part B | 59 | 1 | 40 | 2,360
Part C | 354 | 1 | 20 | 7,080
Part D | 98 | 1 | 20 | 1,960
Subtotal | 567 |  |  | 13,640

Program under which provider is funded | Number of provider respondents | Responses per provider | Hours per response | Total hour burden
Part A only | 685 | 1 | 26 | 17,810
Part B only | 558 | 1 | 26 | 14,508
Part C only | 95 | 1 | 44 | 4,180
Part D only | 59 | 1 | 42 | 2,478
Multiply funded | 683 | 1 | 50 | 34,150
Subtotal | 2,080 |  |  | 73,126

| Number of respondents |  |  | Total hour burden
Total for Both Grantees & Providers | 2,647 |  |  | 86,766

Written comments and recommendations concerning the proposed information collection should be sent within 30 days of this Federal Register Notice to the desk officer for HRSA, either by e-mail to OIRA— submission@omb.eop.gov or by fax to 202-395-6974. Please direct all correspondence to the “attention of the desk officer for HRSA.”

Dated: November 24, 2010.
Robert Hendricks,
Director, Division of Policy and Information Coordination.

[FR Doc. 2010-30212 Filed 11-30-10; 8:45 am]

BILLING CODE 4165-15-P